OFFICE OF PERSONNEL MANAGEMENT

Excepted Service

AGENCY: U.S. Office of Personnel Management (OPM).

ACTION: Notice.

SUMMARY: This notice identifies Schedule A, B, and C appointing authorities applicable to a single agency that were established or revoked from March 1, 2017 to March 31, 2017.

FOR FURTHER INFORMATION CONTACT: Senior Executive Resources Services, Senior Executive Service and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) Department of Homeland Security

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after the completion of regulations implementing the Border Patrol Agency Pay Reform Act of 2014 or January 15, 2019.

Schedule B

No schedule B authorities to report during March 2017.

The following Schedule C appointing authorities were approved during March 2017.

Agency name | Organization name | Position title | Authorization No. | Effective date
DEPARTMENT OF AGRICULTURE | Office of the Assistant Secretary for Congressional Relations | Legislative Analyst | DA170125 | 03/28/2017
| Office of the Secretary | Staff Assistant Deputy White House Liaison | DA170099 DA170116 | 03/30/2017 03/30/2017
|  | Confidential Assistant for Special Projects | DA170103 | 03/28/2017
| Farm Service Agency | Confidential Assistant | DA170131 | 03/31/2017
DEPARTMENT OF COMMERCE | Office of Public Affairs | Senior Public Affairs Coordinator | DC170052 | 03/06/2017
|  | Press Assistant | DC170057 | 03/22/2017
|  | Deputy Director of Public Affairs and Press Secretary | DC170066 | 03/23/2017
|  | Senior Speechwriter and Press Assistant | DC170071 | 03/31/2017
|  | Deputy Director of Speechwriting | DC170075 | 03/27/2017
| Office of White House Liaison | Deputy Director, Office of White House Liaison | DC170053 | 03/06/2017
|  | Director, Office of White House Liaison | DC170061 | 03/21/2017
| Office of Assistant Secretary Legislative and Intergovernmental Affairs | Associate Director for Legislative Affairs | DC170080 | 03/14/2017
| Office of the Chief of Staff | Confidential Assistant | DC170062 | 03/22/2017
|  | Director of Scheduling | DC170083 | 03/28/2017
| Patent and Trademark Office | Deputy Chief Communications Officer for Strategic Communications | DC170077 | 03/23/2017
|  | Senior Advisor | DC170088 | 03/24/2017
| Office of Scheduling and Advance | Deputy Director of Advance | DC170079 | 03/24/2017
| Office of Executive Secretariat | Associate Director, Office of Executive Secretariat | DC170067 | 03/28/2017
| Office of Business Liaison | Special Assistant (2) | DC170082 DC170069 | 03/28/2017 03/22/2017
| Minority Business Development Agency | Special Advisor for Business Development | DC170093 | 03/28/2017
| Office of Assistant Secretary for Industry and Analysis | Associate Director for Intergovernmental Affairs | DC170073 | 03/31/2017
| Office of the General Counsel | Senior Counsel | DC170095 | 03/31/2017
DEPARTMENT OF EDUCATION | Office of the Secretary | Director, White House Liaison | DB170074 | 03/16/2017
DEPARTMENT OF ENERGY | Office of Assistant Secretary for Congressional and Intergovernmental Affairs | Special Advisor | DE170110 | 03/29/2017
| Congressional and Intergovernmental Affairs | Advisor for Intergovernmental and External Affairs | DE170116 | 03/30/2017
|  | Legislative Affairs Advisor (2) | DE170092 DE170093 | 03/15/2017 03/10/2017
| Office of the Secretary | Executive Support Specialist | DE170114 | 03/13/2017
|  | Special Assistant (3) | DE170115 DE170118 DE170109 | 03/13/2017 03/31/2017 03/29/2017
| Office of Assistant Secretary for Fossil Energy | Special Advisor | DE170091 | 03/14/2017
| Office of Assistant Secretary for Nuclear Energy | Senior Advisor and Chief of Staff | DE170095 | 03/21/2017
| Office of Public Affairs | Deputy Director, Office of Public Affairs | DE170107 | 03/21/2017
|  | Digital Strategy Advisor | DE170108 | 03/21/2017
| Office of Energy Policy and Systems Analysis | Special Advisor | DE170111 | 03/29/2017
| Office of Assistant Secretary for International Affairs | Special Advisor | DE170120 | 03/30/2017
| Office of Management | Director of Scheduling | DE170124 | 03/30/2017
ENVIRONMENTAL PROTECTION AGENCY | Office of the Administrator | White House Liaison | EP170026 | 03/28/2017
GENERAL SERVICES ADMINISTRATION | Office of the Regional Administrators | Special Assistant | GS170015 | 03/10/2017
| Office of the Administrator | Senior Advisor for Technology | GS170021 | 03/31/2017
DEPARTMENT OF HEALTH AND HUMAN SERVICES | Office of Health Reform | Policy Advisor Senior Policy Advisor Policy Advisor for Health Reform | DH170139 DH170141 DH170098 | 03/03/2017 03/03/2017 03/17/2017
| Administration for Children and Families | Policy Advisor Confidential Assistant | DH170138 DH170086 | 03/20/2017 03/23/2017
| Office of the Secretary | Deputy Scheduler Director of Advance | DH170158 DH170169 | 03/23/2017 03/23/2017
| Office of the Assistant Secretary for Health | Liaison | DH170137 | 03/28/2017
| Centers for Medicare and Medicaid Services | Senior Advisor | DH170172 | 03/28/2017
| Office of Intergovernmental and External Affairs | Director of Intergovernmental Affairs | DH170133 | 03/30/2017
| Office of the Assistant Secretary for Legislation | Special Advisor (2) | DH170120 DH170157 | 03/07/2017 03/30/2017
| Food and Drug Administration | Senior Advisor | DH170188 | 03/31/2017
DEPARTMENT OF HOMELAND SECURITY | Office of the Chief of Staff | Advance Representative Special Assistant | DM170080 DM170085 | 03/15/2017 03/16/2017
| Office of the Secretary | Director, Trips & Advance | DM170079 | 03/16/2017
| Office of the Assistant Secretary for Public Affairs | Special Assistant | DM170083 | 03/23/2017
| Office of the Assistant Secretary for Policy | Advisor (2) | DM170104 DM170105 | 03/31/2017 03/31/2017
DEPARTMENT OF HOUSING AND URBAN DEVELOPMENT | Office of the Secretary | White House Liaison Executive Assistant | DU170059 DU170062 | 03/02/2017 03/02/2017
| Office of Public Affairs | Deputy Assistant Secretary for Public Affairs | DU170090 | 03/20/2017
|  | Press Secretary | DU170017 | 03/23/2017
|  | Speechwriter | DU170081 | 03/31/2017
| Office of Congressional and Intergovernmental Relations | Congressional Relations Specialist | DU170095 | 03/20/2017
| Office of the Administration | Special Assistant Director, Office of Executive Scheduling and Operations | DU170096 DU170058 | 03/20/2017 03/27/2017
| Office of the General Counsel | Senior Counsel | DU170094 | 03/23/2017
| Office of Public and Indian Housing | Special Advisor (2) | DU170054 DU170055 | 03/27/2017 03/27/2017
DEPARTMENT OF THE INTERIOR | Secretary's Immediate Office | Special Assistant (Scheduling and Advance) (2) | DI170043 DI170044 | 03/10/2017 03/10/2017
|  | Director, Office of Scheduling and Advance | DI170045 | 03/10/2017
|  | White House Liaison | DI170047 | 03/10/2017
|  | Special Assistant | DI170048 | 03/10/2017
| Office of Assistant Secretary—Indian Affairs | Advisor | DI170046 | 03/16/2017
DEPARTMENT OF JUSTICE | Office of the Attorney General | Special Assistant | DJ170040 | 03/01/2017
| Office of Public Affairs | Principal Deputy Director | DJ170037 | 03/07/2017
| Office of Legal Policy | Counsel | DJ170048 | 03/30/2017
NATIONAL ENDOWMENT FOR THE ARTS | Office of the Senior Deputy Chairman | Confidential Assistant | NA170006 | 03/21/2017
OFFICE OF MANAGEMENT AND BUDGET | Office of Legislative Affairs | Deputy for Legislative Affairs (2) | BO170040 BO170032 | 03/08/2017 03/10/2017
| Office of the Director | Confidential Assistant | BO170038 | 03/31/2017
| Office of Health Division | Confidential Assistant | BO170048 | 03/31/2017
| Office of the General Counsel | Assistant Deputy General Counsel | BO170051 | 03/31/2017
OFFICE OF NATIONAL DRUG CONTROL POLICY | Office of the Director | White House Liaison Digital Engagement Specialist | QQ170003 QQ170002 | 03/09/2017 03/31/2017
OFFICE OF SCIENCE AND TECHNOLOGY POLICY | Office of the Director | Confidential Assistant | TS170005 | 03/29/2017
SMALL BUSINESS ADMINISTRATION | Office of Communications and Public Liaison | Assistant Director for Internal Communications and Public Liaison | SB170009 | 03/07/2017
| Office of Congressional and Legislative Affairs | Legislative Assistant Deputy Assistant Administrator | SB170011 SB170015 | 03/10/2017 03/30/2017
| Office of the Administrator | Special Advisor | SB170013 | 03/10/2017
| Office of Capital Access | Special Advisor | SB170021 | 03/21/2017
| Office of Field Operations | Regional Administrator Region IX | SB170019 | 03/24/2017
DEPARTMENT OF TRANSPORTATION | Office of the Secretary | Special Advisor White House Liaison | DT170043 DT170048 | 03/14/2017 03/14/2017
|  | Special Assistant (3) | DT170064 DT170078 DT170052 | 03/28/2017 03/24/2017 03/30/2017
|  | Senior White House Advisor | DT170050 | 03/14/2017
| Office of Public Affairs | Speechwriter | DT170044 | 03/24/2017
| Office of the Executive Secretariat | Special Assistant | DT170057 | 03/24/2017
| Office of Assistant Secretary for Budget and Programs | Special Assistant | DT170065 | 03/31/2017
DEPARTMENT OF THE TREASURY | Office of Chief of Staff | Advance Representative Deputy Chief of Staff | DY170070 DY170071 | 03/01/2017 03/01/2017
|  | Advance Representative | DY170068 | 03/06/2017
|  | Assistant | DY170069 | 03/10/2017
| Office of the Executive Secretary | Special Assistant | DY170074 | 03/16/2017
| Office of Legislative Affairs | Senior Advisor | DY170083 | 03/22/2017
| Office of the Secretary | Personal Aide | DY170073 | 03/23/2017

The following Schedule C appointing authorities were revoked during March 2017.

Agency name | Organization name | Position title | Request No. | Date vacated
DEPARTMENT OF AGRICULTURE | Farm Service Agency | State Executive Director—Delaware | DA130170 | 03/04/2017
COMMODITY FUTURES TRADING COMMISSION | Office of the Chairperson | Public Affairs Specialist (Speechwriter) | CT150002 | 03/31/2017
OFFICE OF THE SECRETARY OF DEFENSE | Office of Assistant Secretary of Defense (Public Affairs) Office of the Secretary | Speechwriter Confidential Assistant | DD160089 DD150135 | 03/01/2017 03/04/2017
NATIONAL TRANSPORTATION SAFETY BOARD | Office of the Managing Director | Confidential Assistant | TB150007 | 03/15/2017
SECURITIES AND EXCHANGE COMMISSION | Office of the Chairman | Confidential Assistant Writer-Editor | SE130005 SE150004 | 03/31/2017 03/31/2017

Authority: 5 U.S.C. 3301 and 3302; E.O. 10577, 3 CFR, 1954-1958 Comp., p. 218.

U.S. Office of Personnel Management.
Kathleen M. McGettigan,
Acting Director.

[FR Doc. 2017-23426 Filed 10-26-17; 8:45 am]

BILLING CODE 6325-39-P